DEPARTMENT OF THE INTERIOR

Bureau of Indian Affairs

Liquor Ordinance of the Karuk Tribe of California

AGENCY: Bureau of Indian Affairs, Interior.

ACTION: Notice.

SUMMARY: This notice publishes the Liquor Ordinance of the Karuk Tribe of California. The Ordinance regulates and controls the possession, sale and consumption of liquor within the Karuk tribal lands. The land is located on trust land and this ordinance allows for the possession and sale of alcoholic beverages within the Karuk Tribe of California tribal lands. This ordinance will increase the ability of the tribal government to control the distribution and possession of liquor within their reservation and at the same time will provide funds for the continued operation and strengthening of the Karuk tribal government and the delivery of tribal government services.

DATES: Effective Date: This Act is effective as of November 26, 2007.

FOR FURTHER INFORMATION CONTACT: Fred Doka, Tribal Government Services Officer, Pacific Regional Office, Bureau of Indian Affairs, 2800 Cottage Way, Sacramento, CA 95825; Telephone (916) 978-6067; or Elizabeth Colliflower, Office of Tribal Services, 1849 C Street, NW., Mail Stop 4513-MIB, Washington, DC 20240; Telephone (202) 513-7627; Fax (202) 208-5113.

SUPPLEMENTARY INFORMATION: Pursuant to the Act of August 15, 1953; Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Karuk Tribal Council adopted this Ordinance pursuant to provisions of the Karuk Constitution on February 14, 2007.

This notice is published in accordance with the authority delegated by the Secretary of the Interior to the Assistant Secretary—Indian Affairs. I certify that the Karuk Tribal Council duly adopted this Ordinance on February 14, 2007.

Dated: November 16, 2007.
Carl J. Artman,
Assistant Secretary—Indian Affairs.

The Liquor Ordinance of the Karuk Tribe of California reads as follows:

LIQUOR ORDINANCE

Of the Karuk Tribe of California

(a) LEGISLATIVE FINDINGS, AUTHORITY AND PURPOSE:

The Tribal Council of the Karuk Tribe of California hereby finds as follows:

(1) The importation, distribution, manufacture and sale of alcoholic liquor for commercial purposes on Karuk Tribal lands is a matter of special concern to the Tribe.

(2) Federal law as embodied in 18 U.S.C. 1161 provides that certain sections of the United States Code, commonly referred to as Federal Indian Liquor Laws, shall not apply to any act or transaction within any area of Indian country, provided such act or transaction is in conformity with both the laws of the state in which such act or transaction occurs, and with an act duly adopted by the Tribe having jurisdiction over such areas of Indian country. The authority for the Ordinance and its adoption by Tribal Council is found in the Tribal Constitution under Article V.

(3) This Ordinance is for the purpose of regulating the sale, possession and use of alcoholic liquor on Karuk Tribe of California Tribal lands and other lands subject to Tribal jurisdiction.

(b) DEFINITIONS:

To the extent that definitions are consistent with tribal or federal law, terms used herein shall have the same meaning.

(1) “Alcoholic liquor” shall mean any alcoholic beverage containing more than one-half of one percent alcohol by volume, and every liquid or solid, patented or not, containing alcohol and capable of being consumed by a human being.

(2) “Tribal Lands” shall mean all lands held in trust by the United States for the Karuk Tribe or its members.

(3) Whenever the words “sell” or “to sell” refer to anything forbidden by this Chapter and related to alcoholic liquor, they include:

(A) To solicit or receive an order.

(B) To keep or expose for sale.

(C) To deliver for value or in any way other than purely gratuitously.

(D) To peddle.

(E) To keep with intent to sell.

(F) To traffic in.

(G) For any consideration, promise or obtained directly or indirectly under any pretext or by any means or procure or allow to be procured for any other person.

(4) The word “sale” includes every act of selling as defined in subsection 2 of this section.

(c) PROHIBITED ACTIVITY:

(1) It shall be unlawful for any person to sell, trade or manufacture any alcoholic liquor on Tribal Lands except as provided for in this Ordinance.

(2) It shall be unlawful for any business establishment or person on Tribal Lands to possess, transport or keep with intent to sell, barter or trade to another, any liquor, except for those commercial liquor establishments on Tribal Lands licensed by the Tribe, provided, however, that a person may transport liquor from a licensed establishment consistent with the terms of the license.

(3) It shall be unlawful for any person to consume alcoholic liquor on a public highway.

(4) It shall be unlawful for any person to publicly consume any alcoholic liquor at any community function, or at or near any place of business, Indian ceremonial grounds, recreational areas, including ballparks, and public camping areas, the Tribal Administration Office and any other area where minors gather for meetings or recreation, except within a tribally licensed establishment where alcohol is sold.

(5) It shall be unlawful for any person under the age of 21 years to buy, attempt to buy or to misrepresent their age in attempting to buy, alcoholic liquor. It shall be unlawful for any person under the age of 21 years to transport, possess or consume any alcoholic liquor on Tribal Lands, or to be under the influence of alcohol or to be at an established commercial liquor establishment, except as authorized under Section (e) of this Ordinance. No person shall sell or furnish alcoholic liquor to any minor.

(6) Alcoholic liquor may not be given as a prize, premium or consideration for a lottery, contest, game of chance or skill, or competition of any kind.

(d) PROCEDURE FOR LICENSE:

(1) Any request for a license under this Ordinance must be presented to the Tribal Council at least 30 days prior to the requested effective date. Tribal Council shall set license conditions at least as strict as those required by federal and applicable state law, including at a minimum:

(A) Liquor may only be served and handled in a manner no less strict than regulated by the California Department of Alcoholic Beverage Control (“ABC”);

(B) The license shall be for a term not to exceed one (1) year;

(C) The licensee shall at all times maintain an orderly, clean, and neat establishment, both inside and outside the licensed premises;

(D) The licensed premises shall be subject to patrol by Tribal law enforcement personnel and such other law enforcement officials as may be authorized under federal, California, or Tribal law;

(E) The licensed premises shall be open to inspection by duly authorized Tribal officials at all times during the regular business hours;

(F) No Liquor or intoxicating beverages shall be sold, served, disposed of, delivered, or given to any person, or consumed on the licensed premises except in conformity with the hours and days prescribed by the laws of the State of California, and in accordance with the hours fixed by the Tribal Council, provided that the licensed premises shall not operate or open earlier, or operate or close later, than is permitted by the laws of the State of California;

(G) No liquor shall be sold within 200 feet of a polling place on Tribal election days, or when a referendum is held of the people of the Tribe, and including special days of observation as designated by the Tribal Council;

(H) All acts and transactions under authority of the Tribal liquor license shall be in conformity with the laws of the State of California, with this Liquor Ordinance, and with any Tribal liquor license issued pursuant to this Liquor Ordinance;

(I) There shall be no discrimination in the operations under the Tribal license by reason of race, color, or creed;

(J) Sales Taxes shall be imposed and collected on alcoholic beverages in a manner not inconsistent with relevant State and Tribal laws;

(K) Liquor may only be served by staff of the licensee; and

(L) Liquor may only be served in rooms where gambling is not taking place.

(2) Council action on a license request must be taken at a regular or special meeting. Unless the request is for a special event license, the Council shall give at least 14 days' notice of the meeting at which the request will be considered. Notice shall be posted at the Tribal Council offices and at the establishment requesting the license, and will be sent by Certified Mail to the California Department of Alcoholic Beverage Control.

(e) SALE OR SERVICE OF LIQUOR BY LICENSEE'S MINOR EMPLOYEES:

(1) The holder of a license issued under this Ordinance may employ persons 18, 19 and 20 years of age who may take orders for, serve and sell alcoholic liquor in any part of the licensed premises when that activity is incidental to the serving of food except in those areas classified by the ABC as being prohibited to the use of minors. However, no person who is 18, 19 or 20 years of age shall be permitted to mix, pour or draw alcoholic liquor except when pouring is done as a service to the patron at the patron's table or drawing is done in a portion of the premises not prohibited to minors.

(2) Except as stated in this section, it shall be unlawful to hire any person to work in connection with the sale and service of alcoholic beverages in a tribally licensed liquor establishment if such person is under the age of 21 years.

(f) WARNING SIGNS REQUIRED:

(1) Any person in possession of a valid retail liquor license, who sells liquor by the drink for consumption on the premises or sells for consumption off the premises, shall post a sign informing the public of the effects and risks of alcohol consumption during pregnancy.

(2) The sign shall:

(A) Contain the message: “Pregnancy and alcohol do not mix. Drinking alcoholic beverages, including wine coolers and beer, during pregnancy can cause birth defects.”

(B) Be either:

(i) A large sign, no smaller than eight and one-half inches by 11 inches in size with lettering no smaller than five-eighths of an inch in height; or

(ii) A reduced sign, five by seven inches in size with lettering of the same proportion as the large sign described in paragraph (a) of this subsection.

(C) Contain a graphic depiction of the message to assist nonreaders in understanding the message. The depiction of a pregnant female shall be universal and shall not reflect a specific race or culture.

(D) Be in English unless a significant number of the patrons of the retail premises use a language other than English as a primary language. In such cases, the sign shall be worded both in English and the primary language or languages of the patrons.

(E) Be displayed on the premises of all licensed retail liquor premises as either a large sign at the point of entry, or a reduced sized sign at points of sale.

(3) The person described in subsection (1) of this section shall also post signs of any size at places where alcoholic beverages are displayed.

(g) CIVIL PENALTY:

(1) Any person who violates the provisions of this Ordinance is deemed to have consented to the jurisdiction of the Tribal Court and may be subject to a civil penalty in Tribal Court for a civil infraction. Such civil penalty shall not exceed the sum of $1,000 for each such infraction, provided, however, that the penalty shall not exceed $5,000 if it involves minors.

(2) The procedures governing the adjudication in Tribal Court of such civil infractions shall be those set out in the Tribal Court Ordinance.

(3) The Tribal Council hereby specifically finds that such civil penalties are reasonably necessary and are related to the expense of governmental administration necessary in maintaining law and order and public safety on Tribal Lands and in managing, protecting and developing the natural resources in the aboriginal territory. It is the legislative intent of the Tribal Council that all violations of this Chapter, whether committed by Tribal members, non-member Indians, or non-Indians, be considered civil in nature rather than criminal.

(h) LICENSE NOT A PROPERTY RIGHT:

Notwithstanding any other provision of this Liquor Ordinance, a Tribal liquor license is a mere permit for a fixed duration of time. A Tribal liquor license shall not be deemed a property right or vested right of any kind, nor shall the granting of a Tribal liquor license give rise to a presumption of legal entitlement to a license/permit in a subsequent time period.

(i) ASSIGNMENT OR TRANSFER:

No Tribal license issued under this Liquor Ordinance shall be assigned or transferred without the prior written approval of the Tribal Council expressed by formal resolution.

(j) SEVERABILITY:

If a court of competent jurisdiction finds any provision of this Ordinance to be invalid or illegal under applicable Federal or Tribal law, such provision shall be severed from this Ordinance and the remainder of this Ordinance shall remain in full force and effect.

(k) CONSISTENCY WITH STATE LAW:

The Karuk Tribe of California agrees to perform in the same manner as any other California business entity for the purpose of liquor licensing and regulations, including but not limited to licensing, compliance with the regulations of the ABC, maintenance of liquor liability insurance. This provision is not intended to waive KTOC's sovereign immunity status or submit KTOC to any jurisdiction inconsistent with such status.

(l) EFFECTIVE DATE:

This Ordinance shall be effective upon publication in the Federal Register after approval by the Secretary of the Interior or his designee.

(m) CERTIFICATION:

I, the Chairman, hereby certify the foregoing Ordinance which was approved at a meeting on the 14th day of February, 2007, was duly adopted by a vote of 5 AYES, 0 NOES, 0 ABSTAIN, and said Ordinance has not been rescinded or amended in any way. The Tribal Council is comprised of 9 members of which 5 voted.

/s/Arch Super

Arch Super, Chairman

/s/ Florrine Super, Secretary

Florrine Super, Secretary

[FR Doc. E7-22929 Filed 11-23-07; 8:45 am]

BILLING CODE 4310-4J-P